DEPARTMENT OF EDUCATION

Office of Safe and Drug-Free Schools; Overview Information; Educational Facilities Clearinghouse; Notice Inviting Applications for New Awards for Fiscal Year (FY) 2010

Catalog of Federal Domestic Assistance (CFDA) Number: 84.215T.

Dates:

Applications Available: June 17, 2010.

Deadline for Transmittal of Applications: July 30, 2010.

Deadline for Intergovernmental Review: July 19, 2010.

Full Text of Announcement

I. Funding Opportunity Description

Purpose of Program: The Educational Facilities Clearinghouse (Clearinghouse) will provide technical assistance and training on the planning, design, financing, construction, operation, and maintenance of public nursery and pre-kindergarten, kindergarten-through-grade-12, and higher education facilities. The Clearinghouse will also develop resources and assemble best practices on issues related to ensuring safe, healthy, and high-performance public education facilities, including on procedures for identifying hazards and conducting vulnerability assessments.

Priority: We are establishing this priority for the FY 2010 grant competition and any subsequent year in which we make awards from the list of unfunded applicants from this competition, in accordance with section 437(d)(1) of the General Education Provisions Act (GEPA), 20 U.S.C. 1232(d)(1).

Absolute Priority: We are establishing this priority to provide a Clearinghouse for public nursery, pre-kindergarten, and kindergarten-through-grade-12 schools, and higher education facilities, to support decision-making related to educational facility planning, design, financing, construction, improvement, operation, and maintenance. This priority is an absolute priority. Under 34 CFR 75.105(c)(3) we consider only applications that meet this priority.

This priority is:

Establishment of the Clearinghouse.

This priority supports the establishment of a Clearinghouse to collect and disseminate information on effective educational practices and the latest research regarding the planning, design, financing, construction, improvement, operations, and maintenance of safe, healthy, high-performance public facilities for nursery and pre-kindergarten, kindergarten-through-grade 12, and higher education.

Invitational Priority: For FY 2010 and any subsequent year in which we make awards from the list of unfunded applicants from this competition, this priority is an invitational priority. Under 34 CFR 75.105(c)(1) we do not give an application that meets this invitational priority a competitive or absolute preference over other applications. Under this competition we are particularly interested in applications that address the following priority.

This priority is:

Development and Dissemination of Information on Green Building Practices.

Under this priority, applicants may propose to develop and disseminate resources and research regarding best practices in constructing and maintaining environmentally sound educational facilities using green building practices. For the purposes of this competition the term “green building,” as defined by the U.S. Environmental Protection Agency, is the practice of creating structures and using processes that are environmentally responsible and resource-efficient throughout a building's life-cycle from siting through design, construction, operation, maintenance, renovation, and deconstruction. This practice expands and complements the classical building design concerns of economy, utility, durability, and comfort.

Requirements: Applicants for grants under this competition must meet the following requirements:

1. Establish and maintain a Web site. To be considered for an award, applicants must include in their application a plan to establish and maintain a dedicated Web site that will include electronic resources, such as links to published articles and research, related to the planning, design, financing, construction, improvement, operation, and maintenance of safe, healthy, high- performance public facilities for nursery and pre-kindergarten, kindergarten-through-grade-12, and higher education. The Web site should be established within 90 days of the award and must be maintained for the duration of the project.

2. Develop Resource Materials. The project funded under this competition must develop resources that support the planning, design, financing, construction, improvement, operation, and maintenance of safe, healthy, high-performance public facilities for nursery and pre-kindergarten, kindergarten-through-grade-12 schools, and higher education. Applicants must plan to develop at least three publications each year. All publication topics must be reviewed and approved by the Department. In general, the three publications will consist of two short (3-4 pages) resource documents that provide a general overview of a particular topic and one longer (8-10 pages) resource document that provides detailed research or analysis on a particular topic.

3. Distance-Learning Events. Applicants must plan to convene up to three distance-learning events each year on topics related to the absolute priority in this notice. The events must be at least one hour in duration and must be aired and archived on the Clearinghouse's Web site. All proposed topics, materials, and presenters must be reviewed and approved by the Department.

4. Training. Applicants must plan to develop and conduct at least two training programs per year for public nursery, pre-kindergarten, and kindergarten-through-grade-12 schools; local educational agencies (LEAs); or public higher education facilities. Training topics must include information on the planning, design, financing, construction, improvement, operation, or maintenance of public educational facilities. Specific training topics could include training on the vulnerability assessment process, including on selecting a vulnerability assessment tool, evaluating educational facility risks and hazards, setting priorities and reporting on identified vulnerabilities, developing written plans to address hazards, and identifying best practices in constructing and maintaining environmentally sound educational facilities using green building practices. Training will be conducted upon request or based on input from the Department or from public nursery, pre-kindergarten, and kindergarten-through-grade-12 schools; LEAs; or public higher education facilities using appropriate Clearinghouse staff or subcontractors. All training topics, materials, and requests for training must be approved in advance by the Department. Applicants must include funds in their budget request for travel, lodging, and per diem costs to administer the training programs at the host site.

5. Technical Assistance. The project funded under this competition must provide technical assistance to public nursery, pre-kindergarten, and kindergarten-through-grade-12 schools; LEAs; or public higher education facilities regarding issues related to the planning, design, financing, construction, improvement, operation, and maintenance of public educational facilities. The technical assistance may be provided in the form of electronic or telephone assistance when requested from these parties or by the Department.

Applicants must plan to provide specialized, on-site technical assistance to up to six public nursery, pre-kindergarten, and kindergarten-through-grade-12 schools; LEAs; or public higher education facilities. The technical assistance must consist of consultation regarding the planning, design, financing, construction, improvement, operation, or maintenance of public educational facilities. Specific technical assistance topics might include information related to assessing facilities and conducting vulnerability assessments; developing written plans to address identified hazards; and other safe school facility-related topics. On-site technical assistance visits will be conducted upon request or based on input from the Department or by public nursery, pre-kindergarten, and kindergarten-through-grade-12 schools; LEAs; or public higher education facilities using appropriate Clearinghouse staff or subcontractors. The Department must be informed in advance of all technical assistance visits. The Clearinghouse must include in its budget funding for travel, lodging, and per diem costs of its staff or subcontractors to conduct the on-site technical assistance visits.

Waiver of Proposed Rulemaking: Under the Administrative Procedure Act (5 U.S.C. 553) the Department generally offers interested parties the opportunity to comment on proposed priorities and other requirements. Section 437(d)(1) of GEPA, however, allows the Secretary to exempt from rulemaking requirements, regulations governing the first grant competition under a new or substantially revised program authority. This is the first competition for an educational facilities clearinghouse under section 5411 of the Elementary and Secondary Education Act of 1965, as amended and, therefore, qualifies for this exemption. In order to ensure timely grant awards, the Secretary has decided to forgo public comment on the absolute priority and requirements under section 437(d)(1) of GEPA. This absolute priority and requirements will apply to the FY 2010 grant competition and any subsequent year in which we make awards from the list of unfunded applicants from this competition.

Program Authority: 20 U.S.C. 7243-7243b, the Consolidated Appropriations Act of 2010, Public Law 111-117.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreement.

Estimated Available Funds: $1,000,000.

Estimated Number of Awards: 1.

Note: The Department is not bound by any estimates in this notice.

Project Period: Up to 36 months.

III. Eligibility Information

1. Eligible Applicants: State or local educational agencies, institutions of higher education (IHEs), or other public or private agencies, organizations, or institutions.

For the purposes of this competition, the term “institution of higher education” is defined in section 101(a) of the Higher Education Act of 1965, as amended by the Higher Education Opportunity Act of 2008, Public Law 110-315 as: An educational institution of higher education in any State that—

(1) Admits as regular students only persons having a certificate of graduation from a school providing secondary education, or the recognized equivalent of such a certificate or persons who meet the requirements of section 484(d)(3) of the Higher Education Act of 1965, as amended;

(2) Is legally authorized within such State to provide a program of education beyond secondary education;

(3) Provides an educational program for which the institution awards a bachelor's degree or provides not less than a two-year program that is acceptable for full credit toward such a degree or awards a degree that is acceptable for admission to a graduate or professional degree program, subject to review and approval by the Secretary;

(4) Is a public or other nonprofit institution; and

(5) Is accredited by a nationally recognized accrediting agency or association or, if not so accredited, is an institution that has been granted preaccreditation status by such an agency or association that has been recognized by the Secretary for the granting of preaccreditation status, and the Secretary has determined that there is satisfactory assurance that the institution will meet the accreditation standards of such an agency or association within a reasonable time.

2. Cost Sharing or Matching: This competition does not require cost sharing or matching.

IV. Application and Submission Information

1. Address to Request Application Package: Sara Strizzi, U.S. Department of Education, 550 12th Street, SW., 10th Floor, Washington, DC 20202-6450. Telephone: (303) 346-0924 or by e-mail: sara.strizzi@ed.gov. You can also obtain an application package via the Internet. To obtain a copy via the Internet, use the following address: http://www2.ed.gov/fund/grant/apply/grantapps/index.html.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this competition.

3. Submission Dates and Times:

Applications Available: June 17, 2010.

Deadline for Transmittal of Applications: July 30, 2010.

Applications for grants under this program must be submitted electronically using the Electronic Grant Application System (e-Application) accessible through the Department's e-Grants site. For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: July 19, 2010.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this program must be submitted electronically unless you qualify for an exception to this requirement in accordance with the instructions in this section.

a. Electronic Submission of Applications.

Applications for a grant under the Educational Facilities Clearinghouse program—CFDA Number 84.215T must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Office of Safe and Drug-Free Schools after following these steps:

(1) Print SF 424 from e-Application.

(2) The applicant's Authorizing Representative must sign this form.

(3) Place the PR/Award number in the upper right hand corner of the hard-copy signature page of the SF 424.

(4) Fax the signed SF 424 to the Office of Safe and Drug-Free Schools at (202) 485-0041 or (202) 245-7166.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because--

• You do not have access to the Internet; or

• You do not have the capacity to upload large documents to e-Application;

and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Sara Strizzi, U.S. Department of Education, 550 12th Street, SW., 10th Floor, Washington, DC 20202-6450. Fax: (202) 485-0041.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.215T), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address:

U.S. Department of Education, Application Control Center, Attention: (CFDA Number 84.215T), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measure: We have identified the following Government Performance and Results Act of 1993 (GPRA) performance measure for assessing the effectiveness of the Clearinghouse: The percentage of recipients of Clearinghouse on-site training or technical assistance that implement one or more changes in improving their education facility based upon Clearinghouse recommendations within six months of the training or technical assistance.

If needed, upon award of the grant, the Secretary will work with the grantee to refine or augment this measure.

VII. Agency Contact

FOR FURTHER INFORMATION CONTACT: Sara Strizzi, U.S. Department of Education, 550 12th Street, SW., 10th Floor, Washington, DC 20202-6450. Telephone: (303) 346-0924 or by e-mail: sara.strizzi@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 10, 2010.
Kevin Jennings,
Assistant Deputy Secretary for Safe and Drug-Free Schools.

[FR Doc. 2010-14681 Filed 6-16-10; 8:45 am]

BILLING CODE 4000-01-P